DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT: OFAC: Andrea Gacki, Director, tel.: 202-622-2510; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On October 6, 2022, OFAC determined that the property and interests in property subject to U.S. jurisdiction of the following persons are blocked under the relevant sanctions authority listed below.

Individuals

1. MYINT, Aung Moe (a.k.a. MYINT, Aung; a.k.a. MYINT, Aung Mo), Waizayandar Road, No.15, Ngwe Kyar Yan Quarter, South Okkalapa Township, Yangon Region, Burma; DOB 09 Jun 1971; alt. DOB 28 Sep 1969; nationality Burma; Gender Male; Registration Number 12/YAKANA(N)006981 (Burma) (individual) [BURMA-EO14014].

Designated pursuant to section 1(a)(i) of Executive Order 14014 of February 10, 2021, “Blocking Property With Respect to the Situation in Burma” (“E.O. 14014”), 86 FR 9429, for operating in the defense sector of the Burmese economy or any other sector of the Burmese economy as may be determined by the Secretary of the Treasury, in consultation with the Secretary of State.

2. MYINT, Hlaing Moe, Burma; DOB 09 Jun 1971; nationality Burma; Gender Male; Registration Number 12/YAKANA(N)006982 (Burma) (individual) [BURMA-EO14014].

Designated pursuant to section 1(a)(vii) of E.O. 14014 for being owned or controlled by, or for having acted or purported to act for or on behalf of, directly or indirectly, DYNASTY INTERNATIONAL COMPANY, a person whose property and interests in property are blocked pursuant to this order.

3. THITSAR, Myo, Burma; DOB 24 Nov 1972; nationality Burma; Gender Female; Registration Number 12/BAHANA(N)002332 (Burma) (individual) [BURMA-EO14014].

Designated pursuant to section 1(a)(vii) of E.O. 14014 for being owned or controlled by, or for having acted or purported to act for or on behalf of, directly or indirectly, DYNASTY INTERNATIONAL COMPANY, a person whose property and interests in property are blocked pursuant to this order.

Entities

1. DYNASTY INTERNATIONAL COMPANY LIMITED (a.k.a. DYNASTY GROUP OF COMPANIES; a.k.a. “DGC”; a.k.a. “DYNASTY INTERNATIONAL”), Waizayandar Road, No.15, Ngwe Kyar Yan Quarter, South Okkalapa Township, Yangon Region, Burma; Registration Number 100720744 (Burma) issued 27 Feb 1997 [BURMA-EO14014].

Designated pursuant to section 1(a)(vii) of E.O. 14014 for being owned or controlled by, or for having acted or purported to act for or on behalf of, directly or indirectly, AUNG MOE MYINT, a person whose property and interests in property are blocked pursuant to this order.

Authority: E.O. 14014, 86 FR 9429.

Dated: October 6, 2022.
Andrea M. Gacki,
Director, Office of Foreign Assets Control, U.S. Department of the Treasury.

[FR Doc. 2022-22207 Filed 10-12-22; 8:45 am]

BILLING CODE 4810-AL-P